DEPARTMENT OF LABOR

Mine Safety and Health Administration

Petitions for Modification

The following parties have filed petitions to modify the application of existing safety standards under section 101(c) of the Federal Mine Safety and Health Act of 1977.

1. Double M Mining, Inc.

[Docket No. M-2002-123-C]

Double M Mining, Inc., P.O. Box 14, Rt. 624, Amonate, Virginia 24610 has filed a petition to modify the application of 30 CFR 77.214(a) (Refuse piles; general) at its Auger #2 Mine (MSHA I.D. No. 46-08915) located in McDowell County, West Virginia. This standard requires refuse piles constructed on or after July 1, 1971, to be located in areas that are a safe distance from all underground mine airshafts, preparation plants, tipples or other surface installations and such piles shall not be located over abandoned openings or streamlines. The petitioner proposes to cover the coal seam with inert material, backfill and eliminate the highwall with refuse on a 2 to 1 slope and cover with soil in order to reclaim the site. The petitioner states that: (i) The face up and the adjacent areas of the mine have been augered and the areas now needs to be reclaimed; (ii) that there will be no mine drainage from the mine openings in the area because the original mine entries were developed down dip and seals have been built that isolate the active mining from the area to be reclaimed from the active mining of the Vica Coal Company who is mining from a different set of portals. The petitioner further states that the Auger #2 Mine was faced up in the area of an old refuse pile by removing the refuse and then taking a small cut to create the highwall. The petitioner asserts that the proposed alternative method would provide at least the same measure of protection as the existing standard.

2. Freeman United Coal Company

[Docket No. M-2002-124-C]

Freeman United Coal Company, P.O. Box 4630, Springfield, Illinois 62708 has filed a petition to modify the application of 30 CFR 75.1101-8(a) (Water sprinkler system; arrangement of sprinklers) at its Crown II Mine (MSHA I.D. No. 11-02632) located in Montgomery County, Illinois. The petitioner proposes to provide a fireproof electrical enclosure and fire detection system in lieu of a sprinkler over the electrical control. The petitioner states that the Crown II Mine is a large underground mine employing three operating sections to develop entrees and rooms with remote control continuous miners and the belt system utilizes ten belt drives. The petitioner further states that: (i) The belt drives and electrical controls are ventilated with isolated intake air; (ii) the electrical control boxes do not contain flammable fluids or other flammable products and are fully enclosed with fireproof construction and are located at least two-feet from coal or other combustible material; and (iii) the electrical cables will conform with the requirements of part 18, and a heat sensor or CO monitor will be installed near the electrical control box. The petitioner asserts that the proposed alternative method would provide at least the same measure of protection as the existing standard.

3. Rustler Coal Company

[Docket No. M-2003-001-C]

Rustler Coal Company, 273 Hill Road, Hegins, Pennsylvania 17938 has filed a petition to modify the application of 30 CFR 75.1002-1 (Location of other electric equipment; requirements for permissibility) at its Orchard Slope Mine (MSHA I.D. No. 36-08346) located in Schuylkill County, Pennsylvania. The petitioner requests a modification of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

4. KenAmerican Resources, Inc.

[Docket No. M-2003-002-C]

KenAmerican Resources, Inc., 7590 State Route 181, Central City, Kentucky 42330 has filed a petition to modify the application of 30 CFR 75.1909(b)(6) (Nonpermissible diesel-powered equipment; design and performance requirements) at its Paradise #9 Mine (MSHA I.D. No. 15-17741) located in Muhlenburg County, Kentucky. The petitioner proposes to equip its diesel grader with a device that will limit the speed of the grader to 10 miles per hour, and provide training to every miner who operates the grader on the proper techniques for lowering the blade to restrict the speed and stop the grader. The petitioner asserts that application of the standard would result in a diminution of safety to the miners and that the proposed alternative method would provide at least the same measure of protection as the existing standard.

5. Anita Mining Company

[Docket No. M-2003-003-C]

Anita Mining Company, One Energy Place, Latrobe, Pennsylvania 15650 has filed a petition to modify the application of 30 CFR 75.1100-2(e)(2) (Quantity and location of firefighting equipment) at its Ondo Extension Mine (MSHA I.D. No. 36-09005) located in Indiana County, Pennsylvania. The petitioner requests a modification of the existing standard to permit an alternative method of compliance for fire fighting equipment required at temporary electrical installations. The petitioner proposes to use two (2) portable fire extinguishers in lieu of using 240 pounds of rock dust at all temporary electrical installations at the Ondo Extension Mine. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before February 26, 2003. Copies of these petitions are available for inspection at that address.

Dated at Arlington, Virginia, this 17th day of January 2003.
Marvin W. Nichols, Jr.,
Director, Office of Standards, Regulations, and Variances.

[FR Doc. 03-1680 Filed 1-24-03; 8:45 am]

BILLING CODE 4510-43-P